DEPARTMENT OF TRANSPORTATION

Federal Aviation Administration

Notice of Passenger Facility Charge (PFC) Approvals and Disapprovals

AGENCY: Federal Aviation Administration (FAA), DOT.

ACTION: Monthly Notice of PFC Approvals and Disapprovals. In February 2007, there were three applications approved. This notice also includes information on one application, approved in January 2007, inadvertently left off the January 2007 notice. Additionally, eight approved amendments to previously approved applications are listed.

SUMMARY: The FAA publishes a monthly notice, as appropriate, of PFC approvals and disapprovals under the provisions of the Aviation Safety and Capacity Expansion Act of 1990 (Title IX of the Omnibus Budget Reconciliation Act of 1990) (Pub. L. 101-508) and Part 158 of the Federal Aviation Regulations (14 CFR part 158). This notice is published pursuant to paragraph d of § 158.29.

PFC Applications Approved

Public Agency: City of Syracuse, New York.

Application Number: 07-07-C-00-SYR.

Application Type: Impose and use a PFC.

PFC Level: $4.50.

Total PFC Revenue Approved in This Decision: $96,732,010.

Earliest Charge Effective Date: April 1, 2007.

Estimated Charge Expiration Date: August 1, 2026.

Class of Air Carriers Not Required to Collect PFC's: Nonscheduled/on-demand air carriers filing FAA Form 1800-31.

Determination: Approved. Based on information contained in the public agency's application, the FAA has determined that the approved class accounts for less than 1 percent of the total annual enplanements at Syracuse-Hancock International Airport.

Brief Description of Project Approved for Collection and Use: Prepare PFC application.

Brief Description of Project Approved for Collection: Passenger terminal security and access improvements.

Decision Date: January 29, 2007.

FOR FURTHER INFORMATION CONTACT: Robert Levine, New York Airports District Office, (516) 227-3807.

Public Agency: County of Del Norte, Crescent City, California.

Application Number: 07-03-C-00-CEC.

Application Type: Impose and use a PFC.

PFC Level: $4.50.

Total PFC Revenue Approved in This Decision: $253,123.

Earliest Charge Effective Date: April 1, 2007.

Estimated Charge Expiration Date: September 1, 2012.

Class of Air Carriers Not Required to Collect PFC's: Nonscheduled/on-demand air carriers filing FAA Form 1800-31.

Determination: Approved. Based on information contained in the public agency's application, the FAA has determined that the approved class accounts for less than 1 percent of the total annual enplanements at Jack McNamara Field.

Brief Description of Project Approved for Collection and Use:

Pavement management system.

Security enhancements.

Aircraft rescue and firefighting vehicle.

Aircraft rescue and firefighting building (design).

Obstruction removal on runways 17 and 29.

Airport master plan.

Environmental inventory for master plan.

Installation of security fencing—phase III.

Rehabilitation of general aviation taxilanes.

Environmental assessment for new terminal building.

Aircraft rescue and firefighting building (construction).

Runway safety area study.

PF program.

Brief Description of Disapproved Project: Install 50,000-gallon water tank.

Determination: This project does not meet the requirements of § 158.15(b).

Decision Date: February 16, 2007.

FOR FURTHER INFORMATION CONTACT: TJ Chen, San Francisco Airports District Office, (650) 876-2778, extension 625.

Public Agency: Western Reserve Port Authority, Youngstown, Ohio.

Application Number: 07-05-C-00-YNG.

Application Type: Impose and use a PFC.

PFC Level: $4.50.

Total PFC Revenue Approved in This Decision: $441,000.

Earliest Charge Effective Date: April 1, 2007.

Estimated Charge Expiration Date: September 1, 2012.

Class of Air Carriers Not Required to Collect PFC's: Air taxi/commercial operators filing FAA Form 1800-31.

Determination: Approved. Based on information contained in the public agency's application, the FAA has determined that the approved class accounts for less than 1 percent of the total annual enplanements at Youngstown-Warren Regional Airport.

Brief Description of Projects Approved for Collection and Use:

PFC program administration.

Hold room seating.

New restrooms in hold room area.

Brief Description of Project Approved for Collection: Terminal curb and sidewalk replacement and roof repair.

Decision Date: February 22, 2007.

FOR FURTHER INFORMATION CONTACT: Jason Watt, Detroit Airports District Office, (734) 229-2906.

Public Agency: Asheville Regional Airport Authority, Asheville, North Carolina.

Application Number: 07-03-C-00-AVL.

Application Type: Impose and use a PFC.

PFC Level: $4.50.

Total PFC Revenue Approved in This Decision: $478,051.

Earliest Charge Effective Date: April 1, 2007.

Estimated Charge Expiration Date: September 1, 2007.

Class of Air Carriers Not Required to Collect PFC's: Nonscheduled/on-demand air taxi operators.

Determination: Approved. Based on information contained in the public agency's application, the FAA has determined that the approved class accounts for less than 1 percent of the total annual enplanements at Asheville Regional Airport.

Brief Description of Project Approved for Collection and Use: Security enhancements.

Decision Date: February 23, 2007.

FOR FURTHER INFORMATION CONTACT: John Marshall, Atlanta Airports District Office, (404) 305-7153.

Amendments to PFC Approvals
Amendment No., city, state | Amendment approved date | Original approved net PFC revenue | Amended approved net PFC revenue | Original estimated charge exp. date | Amended estimated charge exp. date
99-01-C-03-FAI, Fairbanks, AK | 2/06/07 | $5,460,000 | $5,196,252 | 10/01/06 | 10/01/06
04-07-C-02-JNU, Juneau, AK | 2/06/07 | 5,143,039 | 5,226,106 | 09/01/09 | 09/01/08
99-05-C-03-MFR, Medford, OR | 2/14/07 | 1,672,962 | 1,621,333 | 02/01/03 | 04/01/03
05-09-C-01-COS, Colorado Springs, CO | 2/15/07 | 5,847,000 | 6,255,000 | 09/01/07 | 01/01/08
05-05-C-01-SUN, Hailey, ID | 2/15/07 | 711,054 | 746,213 | 04/01/09 | 08/01/07
03-04-C-02-EAT, Wenatchee, WA | 2/15/07 | 142,025 | 132,532 | 06/01/04 | 06/01/04
00-02-C-02-CEC, Crescent City, CA | 2/16/07 | 447,048 | 156,237 | 03/01/11 | 04/01/07
*00-08-C-01-MCO, Orlando, FL | 2/27/07 | 253,632,770 | 253,632,770 | 07/01/14 | 09/01/10
The amendment denoted by an asterisk (*) includes a change to the PFC level charged from $3.00 per enplaned passenger to $4.50 per enplaned passenger. For Orlando International Airport, this change is effective on April 1, 2007.

Issued in Washington, DC, on March 9, 2007.
Joe Hebert,
Manager, Financial Analysis and Passenger Facility Charge Branch.

[FR Doc. 07-1300 Filed 3-16-07; 8:45 am]

BILLING CODE 4910-13-M